Proclamation 10270 of September 30, 2021

National Disability Employment Awareness Month, 2021

By the President of the United States of America

A Proclamation

When we passed the Americans with Disabilities Act (ADA) 31 years ago, our Nation moved closer to fulfilling its foundational promise of liberty, justice, dignity, and equality for all. I was enormously proud to co-sponsor the ADA as a member of the United States Senate—a truly bipartisan effort that was personal to millions of families. For more than 60 million disabled Americans, the ADA is much more than just a law. It provides a vital source of opportunity and self-sufficiency, allows for increased economic participation, and serves as a powerful shield against discrimination in the workplace. National Disability Employment Awareness Month is a chance for us to celebrate workers with disabilities and recommit ourselves to dismantling barriers to access and inclusion in the workplace.

This year, the Office of Disability Employment Policy in the Department of Labor celebrates 20 years of helping advance opportunity for workers with disabilities across the Nation. As part of its mission, the agency remains at the forefront of emerging challenges in the workplace, such as developing comprehensive resources to ensure that workers grappling with the long-term effects of COVID-19 have access to the rights and resources they are due under disability law—including flexibilities, tools, and accommodations in the workplace.

Despite the progress our Nation has made in recent decades, people with disabilities are still too often marginalized and denied access to the American dream. Americans with disabilities—particularly women and people of color—have faced long-standing gaps in employment, advancement, and income. The COVID-19 pandemic has compounded these inequities, as people with disabilities have faced heightened risks—particularly the disproportionate share of people with disabilities employed in the hardest-hit industries. Our Nation will never fully recover and rebuild unless every single community—including disabled Americans—is fully included.

My Administration remains focused on ensuring that every single American has the chance to thrive, succeed, and contribute their talents. That is why I have issued Executive Orders to advance diversity, equity, inclusion, and accessibility to bolster career paths and promote economic stability for Americans with disabilities. I have proposed eliminating outdated, discriminatory provisions in the Fair Labor Standards Act that allow employers to pay disabled workers less than the minimum wage. Young people with disabilities in particular must be part of an inclusive economic recovery so that they can find the fulfilling careers, apprenticeships, and futures they deserve in every industry; to that end, we must promote the technologies and tools, as well as the attitudes, that foster welcoming work environments for young Americans. Our Nation's future will be brighter and more secure when everyone is dealt into the economy we build together.

All Americans should be proud that we have made substantial progress since the days before the ADA—when an employer could refuse to hire you because of a disability, when a person using a wheelchair could not take a bus or a train to work, and when a person with a disability could be denied service in a restaurant or grocery store. Now, 31 years later, it is the shared responsibility of all of us to tear down the barriers that remain for people with disabilities and to ensure that all Americans have the chance to find good jobs and build good lives—for themselves and for the good of our entire Nation.

NOW, THEREFORE, I, JOSEPH R. BIDEN JR., President of the United States of America, by virtue of the authority vested in me by the Constitution and the laws of the United States, do hereby proclaim October 2021 as National Disability Employment Awareness Month. I urge all Americans to embrace the talents and skills that workers with disabilities bring to the national recovery and to promote the right to equal employment opportunity for all people.

IN WITNESS WHEREOF, I have hereunto set my hand this thirtieth day of September, in the year of our Lord two thousand twenty-one, and of the Independence of the United States of America the two hundred and forty-sixth.

[FR Doc. 2021-21887

Filed 10-4-21; 11:15 am]

Billing code 3395-F2-P